DEPARTMENT OF ENERGY

Federal Energy Regulatory Commission

[Project No. 2179-045]

Merced Irrigation District; Notice of Application Accepted for Filing, Soliciting Comments, Motions To Intervene and Protests

Take notice that the following hydroelectric application has been filed with the Commission and is available for public inspection.

a. Type of Application: Application for Temporary Variance of License Requirements.

b. Project No.: 2179-045.

c. Date filed: March 27, 2014.

d. Applicant: Merced Irrigation District (Licensee).

e. Name of Project: Merced River Hydroelectric Project.

f. Location: The existing project is located on the Merced River in Merced and Mariposa counties, California.

g. Filed Pursuant to: Federal Power Act 16 U.S.C. 791a-825r.

h. Applicant Contact: Mr. John Sweigard, Merced Irrigation District, P.O. Box 2288, Merced, CA 95344; Telephone (209) 722-5761.

i. FERC Contact: Mr. John Aedo, (202) 502-3335 or john.aedo@ferc.gov.

j. Deadline for filing comments, motions to intervene, protests, and recommendations is 15 days from the date of this notice.

The Commission strongly encourages electronic filing. Please file motions to intervene, protests, comments, and recommendations using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2179-045.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Request: The licensee requests an emergency, temporary variance of the minimum flow and storage requirements under articles 40 and 44 of the license for the Merced River Hydroelectric Project. The licensee is proposing this emergency request due to the severe drought in the State of California. The licensee requests that during March and April 2014, its compliance obligation at Shaffer Bridge be 60 cubic feet per second (cfs) daily average flow, rather than 60 cfs instantaneous flow. To ensure minimum flows in the river, the licensee proposes an instantaneous flow of not less than 40 cfs at Shaffer Bridge during this two month period. The licensee also requests that its minimum storage requirement in Lake McClure be reduced from 115,000 acre-feet (AF) to no less than 85,000 AF for 2014. The licensee estimates that with the approval of the proposed temporary amendment requests, it may be able to extend its irrigation season at least two weeks plus improve fishery conditions over a longer term.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208- 3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: March 28, 2014.
Kimberly D. Bose,
Secretary.

[FR Doc. 2014-07497 Filed 4-3-14; 8:45 am]

BILLING CODE 6717-01-P